DEPARTMENT OF JUSTICE

Notice of Lodging of Proposed Modifications of Consent Decree Under the Clean Water Act

On June 29, 2022, the Department of Justice lodged proposed modifications to a Consent Decree with the United States District Court for the Eastern District of Pennsylvania in United States and the Commonwealth of Pennsylvania v. Bristol Township, Civil Case No. 2:10-cv-5049 (E.D. Pa.).

The original Consent Decree was entered in January, 2011, and resolved civil claims under the Clean Water Act including: the discharge of pollutants, including raw sewage, from Bristol Township's (“Bristol”) sanitary sewer system to navigable waters; violations of the operation and maintenance requirements of Bristol's National Pollutant Discharge Elimination System (“NPDES”) permit; and violations of the Pennsylvania Clean Streams Law. The Consent Decree included measures to ensure compliance with Bristol's NPDES permit limitations and requirements, proper operation and maintenance of the waste water treatment plant and the collection system, and effective implementation of Bristol's Pretreatment Program.

The parties to the Consent Decree have agreed to certain modifications set forth in the Second Amendment to the Decree. The Second Amendment builds upon the previous amendment to the Consent Decree, which was entered by the Court in May 2012. The Second Amendment is meant to address the continuing hydraulic overload of Bristol's sewer system. The Second Amendment provides for Bristol to conduct additional inflow and infiltration (“I&I”) work through the implementation of its I&I Abatement Plan, and construct a new clarifier at its waste water treatment plant. The Second Amendment also modifies certain notice requirements for the parties and resolves certain stipulated penalties.

The publication of this notice opens a period for public comment on the proposed modifications to the Consent Decree. Comments should be addressed to the Assistant Attorney General, Environment and Natural Resources Division, and should refer to United States and the Commonwealth of Pennsylvania v. Bristol Township, Civil Case No. 2:10-cv-5049 (E.D. Pa.), D.J. Ref. No. 90-5-1-1-09460/1. All comments must be submitted no later than thirty (30) days after the publication date of this notice. Comments may be submitted by email or by mail:

To submit comments: | Send them to:
By email | pubcomment-ees.enrd@usdoj.gov.
By mail | Assistant Attorney General, U.S. DOJ—ENRD, P.O. Box 7611, Washington, DC 20044-7611.

During the public comment period, the proposed amendments to the Consent Decree may be examined and downloaded at this Justice Department website: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $4.25 (25 cents per page reproduction cost) payable to the United States Treasury.

Jeffrey Sands,
Assistant Section Chief, Environmental Enforcement Section, Environment and Natural Resources Division.

[FR Doc. 2022-14337 Filed 7-5-22; 8:45 am]

BILLING CODE 4410-15-P